ENVIRONMENTAL PROTECTION AGENCY

[FRL-9612-9]

Biological Processors of Alabama; Decatur, Morgan County, AL; Notice of Settlement

AGENCY: Environmental Protection Agency.

ACTION: Notice of Settlement.

SUMMARY: Under Section 122(h)(1) of the Comprehensive Environmental Response, Compensation and Liability Act (CERCLA), the United States Environmental Protection Agency has entered into a settlement for reimbursement of past response costs concerning the Biological Processors of Alabama Superfund Site located in Decatur, Morgan County, Alabama.

DATES: The Agency will consider public comments on the settlement until February 2, 2012. The Agency will consider all comments received and may modify or withdraw its consent to the settlement if comments received disclose facts or considerations which indicate that the settlement is inappropriate, improper, or inadequate.

ADDRESSES: Copies of the settlement are available from Ms. Paula V. Painter. Submit your comments by Site name Biological Processors of Alabama Superfund Site by one of the following methods:

• www.epa.gov/region4/waste/sf/enforce.htm.

• Email. Painter.Paula@epa.gov.

FOR FURTHER INFORMATION CONTACT: Paula V. Painter at (404) 562-8887.

Dated: December 14, 2011.
Anita L. Davis,
Chief, Superfund Enforcement & Information Management Branch, Superfund Division.

[FR Doc. 2011-33680 Filed 12-30-11; 8:45 am]

BILLING CODE 6560-50-P